DEPARTMENT OF COMMERCE

International Trade Administration

[A-570-922, A-583-842]

Raw Flexible Magnets From the People's Republic of China and Taiwan: Final Results of the Expedited Sunset Reviews of the Antidumping Duty Orders

AGENCY: Enforcement and Compliance, formerly Import Administration, International Trade Administration, Department of Commerce.

SUMMARY: On August 1, 2013, the Department of Commerce (the Department) published the initiation of the first sunset reviews of the antidumping duty orders on raw flexible magnets from the People's Republic of China and Taiwan pursuant to section 751(c) of the Tariff Act of 1930 (the Act), as amended.¹ The Department finds that revocation of these antidumping duty orders would be likely to lead to continuation or recurrence of dumping as indicated in the “Final Results of Sunset Reviews” section of this notice.

¹ See Initiation of Five-Year (“Sunset”) Review, 78 FR 46575 (August 1, 2013) (Notice of Initiation).

DATES: Effective Date: December 23, 2013.

FOR FURTHER INFORMATION: Michael A. Romani or Minoo Hatten, AD/CVD Operations, Office I, Enforcement and Compliance, International Trade Administration, U.S. Department of Commerce, 14th Street and Constitution Avenue NW., Washington, DC 20230; telephone: (202) 482-0198 or (202) 482-1690, respectively.

SUPPLEMENTARY INFORMATION:

Background

The Department received a notice of intent to participate in these sunset reviews from Magnum Magnetics Corporation (the domestic interested party), within the 15-day period specified in 19 CFR 351.218(d)(1)(i). The domestic interested party claimed interested party status under section 771(9)(C) of the Act as a producer of the domestic like product.

The Department received an adequate substantive response to the Notice of Initiation from the domestic interested party within the 30-day period specified in 19 CFR 351.218(d)(3)(i). The Department received no substantive response from any respondent interested parties. In accordance with section 751(c)(3)(B) of the Act and 19 CFR 351.218(e)(1)(ii)(C)(2), the Department has conducted expedited (120-day) sunset reviews of the antidumping duty orders on raw flexible magnets from the People's Republic of China and Taiwan.

Scope of the Orders

The products subject to these orders are certain flexible magnets regardless of shape,² color, or packaging.³ The complete scope language of these orders is listed in the Issues and Decision Memorandum from Christian Marsh, Deputy Assistant Secretary for Antidumping and Countervailing Duty Operations, to Ronald K. Lorentzen, Acting Assistant Secretary for Enforcement and Compliance, dated concurrently with this notice (Issues and Decision Memorandum), which is hereby adopted by this notice. The products subject to the orders are currently classifiable principally under subheadings 8505.19.10 and 8505.19.20 of the Harmonized Tariff Schedule of the United States (HTSUS). The HTSUS subheadings are provided only for convenience and customs purposes; the written description of the scope of the orders is dispositive.

² The term “shape” includes, but is not limited to profiles, which are flexible magnets with a non-rectangular cross-section.

³ Packaging includes retail or specialty packaging such as digital printer cartridges.

Analysis of Comments Received

All issues raised in these reviews are addressed in the Issues and Decision Memorandum, including the likelihood of continuation or recurrence of dumping in the event of revocation and the magnitude of dumping margins likely to prevail if the orders were revoked. Parties can find a complete discussion of all issues raised in these reviews and the corresponding recommendations in this public memorandum, which is on file electronically via IA ACCESS. IA ACCESS is available to registered users at http://iaaccess.trade.gov and in the Central Records Unit (CRU) in Room 7046 of the main Department of Commerce building. In addition, a complete version of the Issues and Decision Memorandum can be accessed directly on the internet at http://enforcement.ita.doc.gov/frn/index.html. The signed Issues and Decision Memorandum and the electronic versions of the Issues and Decision Memorandum are identical in content.

Final Results of Reviews

The Department determines that revocation of the antidumping duty orders on raw flexible magnets from the People's Republic of China and Taiwan would be likely to lead to continuation or recurrence of dumping at the following weighted-average percentage margins:

Manufacturers/producers/ exporters | Weighted- average margin (percent)
People's Republic of China:
Exporters with a separate rate | 105.00
Exporters which are part of the country-wide entity | 185.28
Taiwan:
Kin Fong Magnets Co., Ltd | 38.03
Magruba Flexible Magnets Co., Ltd | 38.03
JASDI Magnet Co., Ltd | 38.03
All others | 31.20

Notification to Interested Parties

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act and 19 CFR 351.221(c)(5)(ii).

Dated: December 16, 2013.
Ronald K. Lorentzen,
Acting Assistant Secretary for Enforcement and Compliance.

[FR Doc. 2013-30511 Filed 12-20-13; 8:45 am]

BILLING CODE 3510-DS-P